DEPARTMENT OF AGRICULTURE

Farm Service Agency

Rural Business—Cooperative Service

Rural Housing Service

Rural Utilities Service

7 CFR Part 1900

RIN 0560-AH57

Regulations Regarding Employee Conflicts of Interest

AGENCY: Farm Service Agency, USDA.

ACTION: Final rule.

SUMMARY: This rule clarifies the regulations governing employee conflicts of interest for the successor agencies of the former Farmers Home Administration (FmHA), which was reorganized by the Department of Agriculture Reorganization Act of 1994 (Pub. L. 103-354) into the Farm Service Agency (FSA), Rural Business-Cooperative Service, Rural Housing Service and Rural Utilities Service. Since the reorganization, FSA revised its regulations to streamline them and separate them from the other successor agencies. FSA's regulations regarding employee conflicts of interest are now found in regulations published by the Office of Government Ethics (OGE) in 5 CFR part 2635 and regulations published jointly by OGE and FSA in 5 CFR part 8301. To avoid confusion regarding applicability of the regulations, this rule amends 7 CFR part 1900, subpart D to provide specifically that they do not apply to FSA.

DATES: Effective Date: July 11, 2006.

FOR FURTHER INFORMATION CONTACT: Tonya Willis, Human Resources Division, Farm Service Agency; telephone: (202) 418-8972; Facsimile: (202) 418-9093; E-mail: Tonya.Willis@usda.gov.

SUPPLEMENTARY INFORMATION

Executive Order 12866

This rule has been determined to be not significant for purposes of Executive Order 12866 and, therefore, was not reviewed by the Office of Management and Budget.

Paperwork Reduction Act

This rule does not affect any information collections.

List of Subjects in 7 CFR Part 1900

Agriculture, Loan programs—Agriculture.

Accordingly, 7 CFR part 1900 is amended as follows:

PART 1900—GENERAL

1. The authority citation for part 1900 continues to read as follows:

Authority: 5 U.S.C. 301; 7 U.S.C. 1989; 7 U.S.C. 6991, et seq.; 42 U.S.C. 1480; Reorganization Plan No. 2 of 1953 (5 U.S.C. App.).

Subpart D—Processing and Servicing FmHA or Its Successor Agency Under Public Law 103-354 Assistance to Employees, Relatives, and Associates

2. In § 1900.151, add a new paragraph (d), to read as follows:

§ 1900.151 General.

* * * * *

(d) The provisions of this subpart do not apply to the Farm Service Agency. The relevant regulations applicable to the Farm Service Agency can be found at 5 CFR parts 2635 and 8301.

J.B. Penn,
Under Secretary for Farm and Foreign Services.
Dated: June 28, 2006.
Thomas C. Dorr,
Under Secretary for Rural Development.

[FR Doc. 06-6122 Filed 7-10-06; 8:45 am]

BILLING CODE 3410-05-P